DEPARTMENT OF STATE

[Public Notice 3442]

Bureau of Educational and Cultural Affairs Request for Proposals (ECA/PE/C/EUR-01-19): Exchanges and Training Programs for the New Independent States (NIS): Kazakhstan, Kyrgyzstan, Tajikistan, Turkmenistan, Uzbekistan, Armenia, Azerbaijan, Georgia, Belarus, Moldova, Ukraine, Russia

SUMMARY: The United States Department of State, Bureau of Educational and Cultural Affairs, Office of Citizen Exchanges, Europe/Eurasia Division, announces an open competition for assistance awards in the areas of Media Training, Women's Leadership, Public Advocacy Training, and Prevention of Trafficking in Women and Girls. Public and private non-profit organizations meeting the provisions described in IRS regulation 26 CFR 1.501C may apply to conduct exchanges and training programs. Grants are subject to the availability of funds.

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program cited above is provided through the Fulbright-Hays Act and the FREEDOM Support Act.

Programs and projects must comply with Bureau requirements and guidelines outlined in the Solicitation Package: the Request for Proposals (RFP) and the Proposal Submission Guidelines (PSI).

Announcement Title and Number

All communications with the Bureau concerning this Request for Proposals (RFP) should refer to the announcement title “Exchanges and Training Programs for the NIS” and reference number ECA/PE/C/EUR-01-19.

Overview

The Bureau of Educational and Cultural Affairs (the Bureau) invites applicants to submit proposals that encourage the growth of democratic institutions in Kazakhstan, Kyrgyzstan, Tajikistan, Turkmenistan, Uzbekistan, Armenia, Azerbaijan, Georgia, Belarus, Moldova, Ukraine and Russia. Exchanges and training programs supported by the institutional grants from the Bureau should operate at two levels: they should enhance institutional partnerships, and they should offer practical information to individuals and groups to assist them with their professional and volunteer responsibilities.

Strong proposals usually have the following characteristics: an active, existing partnership between a U.S. organization and a NIS institution(s); a proven successful track record for conducting program activity; cost-sharing from U.S. and NIS sources, including donations of air fares, hotel and/or housing costs, ground transportation, interpreters, room rentals, etc.; experienced staff with NIS language ability; a clear, convincing plan outlining exactly how the program components will be carried out and how permanent results will be accomplished as a result of the grant; and a follow-on plan that extends beyond the Bureau grant period. Knowledge of the current technological capacity (Internet connectivity, email, hardware and software) of NIS partners and their countries and/or regions, and a description of the role of technology in the proposed program, are essential. Cost-sharing in tangible forms of in-kind and monetary contributed to the program by the prospective grantee institution, NIS partners, as well as funding from third party sources, should be included in the budget.

Unless otherwise specified below: (1) Program activity may include: “training of trainers (TOT),” internships, short-term training, consultations, study tours, site visits, and extended, intensive workshops; and (2) programming may take place in the United States and/or in Russia, Belarus, Moldova, Ukraine, Armenia, Azerbaijan, Georgia, Kazakhstan, Kyrgyzstan, Turkmenistan and Uzbekistan. Proposals should reflect a practical understanding of the current political, economic and social environment that is relevant to the theme addressed in the proposal. Proposals should also indicate a strong knowledge of similar activities and organizations working in the region. The Bureau strongly encourages applicants to design exchange programs for non-English speakers.

Applicants should identify the U.S. and NIS partner organizations and individuals with whom they are proposing to collaborate and describe in detail previous cooperative projects. Specific information about the NIS partners' activities and accomplishments is required and should be included in the section on “Institutional Capacity.” Resumes for individuals mentioned in the proposal should be included, including proposed U.S. and NIS staff, trainers, consultants, etc.

Programs should be designed so that the sharing of information and training that occurs during the grant period will continue long after the grant period is over. Proven methods of sustainability include, but are not limited to: a model TOT program that would include initial training, practice presentation sessions for the NIS participants, followed by training activities coordinated and implemented by the NIS participants in their home countries; a commitment to create or support in-country training/resource centers; plans to create online communities, professional networks or professional associations; regularly published electronic and/or hard-copy newsletters; and ongoing mentoring through Internet communication.

To be considered for a grant award in this competition, the proposed training and exchange programs must address one of the following themes:

• Media Training (Ukraine or Belarus/Ukraine, Russia, Caucasus Regional, Central Asia Regional)

• Women's Leadership Programs (Armenia, Azerbaijan, Georgia, Kazakhstan, Kyrgyzstan, Tajikistan, Turkmenistan and Uzbekistan—Single Country & Regional)

• Public Advocacy Training for NGOs and Associations (Russia, Belarus/Russia, Belarus—with Cross-Border component)

• Prevention of Trafficking in Women and Girls (Russia, Belarus, Moldova—Single- and Multi-country)

Media Training

Overview

In most countries of the NIS, severe economic crises and attempts by government and private sector to control media outlets are threatening the survival of the independent media. Although training in the area of objective reporting and investigative journalism has been conducted in many NIS countries, most journalists would benefit from training in this area. The ability and know-how to develop new methods of effective, applicable income generation and to implement better fiscal management practices, and a commitment to objective reporting are critical to the survival of independent media.

The Bureau is interested in proposals from applicants who possess a thorough understanding of the current state and needs of the media in the NIS. Training activities should not duplicate the work done under recent or existing media training programs, but should complement those efforts.

Proposals may include a combination of in-country and U.S.-based training activities. When providing a U.S.-based component, the program should include a hands-on internship training component at an appropriate media outlet. For these internships, the names of those media establishments willing to host participants should be provided and the applicant should describe why these media establishments have been chosen. The internship format may include both individual placements as well as work in small groups (not to exceed three at a time). If the small group format is used, the internships must have a practical program component, not just be site visits. For proposals with a U.S.-based component, the Bureau will give higher ranking to proposals that ensure lasting linkages between these participants and their American colleagues. When organizations propose an internship program at a U.S. media outlet, efforts should be made to recruit participants who possess some knowledge of the English language.

Media Training for Ukraine or Ukraine/Belarus

• In-country training activities that include both Belarusians and Ukrainians should take place in Ukraine.

• Proposals should emphasize training in objective reporting, investigative journalism and/or developing and implementing effective and applicable income generation schemes and adopting better fiscal management practices.

• Participants may be journalists and/or media managers.

• Applicants are strongly encouraged to submit proposals that include both Belarusian and Ukrainian participants.

Media Training for Russia

• Proposals should emphasize training in objective reporting and/or developing and implementing effective and applicable income generation schemes and adopting better fiscal management practices.

• Participants may be journalists and/or media managers.

• Participants should be recruited from areas outside of the major cities of Moscow and St. Petersburg.

Regional Media Training for the Caucasus Region

• Proposals should emphasize training in objective reporting and/or developing and implementing effective and applicable income generation schemes and adopting better fiscal management practices.

• When possible, applicants are encouraged to include working visits to media outlets in another country of the region.

• Participants may be journalists and/or media managers.

Regional Media Training for Central Asia

• Proposals should focus efforts on Kazakhstan, Kyrgyzstan and Uzbekistan.

• Participants should be media managers.

• Projects should emphasize training in developing and implementing effective and applicable income generation schemes and adopting better fiscal management practices in order to reduce dependence on government support.

Women's Leadership Training for Central Asia and the Caucasus Region

Overview

Over the past decade, women's leadership programs and women-run organizations have been supported and strengthened through local, national and international initiatives. Much of the work that has been done can be replicated and adapted in other communities, creating a closer knit community of women's groups and using available resources to the utmost potential. For this competition, our priorities focus on Central Asia and the Caucasus Region. American organizations and their NIS partners should jointly develop proposals that concentrate on strengthening and broadening existing networks in order to further the progress and provide cohesion for women's groups in these regions and across borders. Applicants should accurately describe current advances in the sphere of women's leadership, impart a keen understanding of each country's unique role, ensure equity if a regional program is proposed, and provide a clear explanation of the proposed project's potential contribution to the larger domestic and international efforts in women's leadership training programs.

The target audience should be goal-oriented women and women's groups who are currently active in their communities. In each country or region, participants should be recruited from outlying cities, towns and villages, in addition to capital cities. Needs assessments should be conducted prior to or during proposal development; priority will be given to partnerships whose needs and goals are already defined. Proposed training sessions should emphasize development of organizational skills; improving organizational efficiency; developing and sustaining networks and coalitions with organizations in the public and private sector; and implementation of educational, informational and/or advocacy programs for communities throughout the country and/or region. Proposals may include a plan for building regional associations and networks of women's organizations.

Program activity may take place in the NIS countries and/or in the United States. These programs are intended to provide opportunities for NIS women and women's groups to increase their visibility and effectiveness in the social, economic, political and democratic spheres. There are various possibilities for acceptable training programs. The following guidelines should aid in the program design process. The Bureau welcomes programming ideas that are justified, innovative, well defined and include a detailed plan for implementation.

Women's Leadership Programs for Central Asia (Kazakhstan, Kyrgyzstan, Tajikistan, Turkmenistan, Uzbekistan)

• Women's leadership in Central Asia can be addressed in single-country or regional programs focusing on citizen participation, organizational development, growth and sustainability.

• Organizations that have previously conducted women's leadership training programs in Russia and Ukraine are encouraged to replicate and adapt their programs for the women's leadership programs in Central Asia. These programs should include experienced trainers from Russia and/or Ukraine for the training components held in Central Asia.

• The Bureau encourages programs that support or build on country- or region-specific themes or target audiences. Themes may include, but are not limited to, combinations of the following: community development, cottage industry and small business networks, NGOs and awareness campaigns, public-private cooperation, professional development, political leadership, and needs of special interest groups (i.e. ethnic minorities, women with disabilities, young people).

• Priority will be given to programs that include a strong multiplier effect and that will result in the support or creation of a network or coalition with activities continuing after the grant period. Creation of coalitions and networks should be complementary and not duplicative.

• Applicants are strongly encouraged to include women from Tajikistan and Turkmenistan in the proposal's target audience. However, in-country activities for Central Asians should not take place in Tajikistan. Applicants should justify the selection of a regional training site(s) in Central Asia and outline the logistics necessary for participants from these two countries to participate. For example, the applicant should describe in detail the benefit of holding the training in the proposed location and potential means of transportation, passport and visa requirements between the Central Asian countries, and any other travel arrangements issues relevant to the region.

• Program plans may include a component for a Small Grants Competition. This requires a timeline and detailed plan for outreach, advertising, recruitment and selection; a sample application; a description of the proposal review and award mechanism; a plan for how the grantee would monitor and evaluate small grant activity; and the proposed amount for an average grant. Funds for the Small Grants Competition should be no more than 25% of the total requested from the Bureau.

Women's Leadership Programs for the Caucasus Region (Armenia, Azerbaijan, Georgia)

• Women's leadership programs in the Caucasus Region should focus on citizen participation, cross-border networking and coalition building, organizational development, growth and sustainability.

• The Bureau encourages programs that support or build on region-specific themes or target audiences. Themes could include, but are not limited to, combinations of the following: community development, cottage industry and small business networks, NGOs' role in societal issues and awareness campaigns, public-private cooperation, professional development, political leadership, cross-cultural and cross-border issues, and needs of special interest groups (i.e. ethnic minorities, women with disabilities, young people).

• Priority will be given to programs that include a strong multiplier effect and that will result in the support or creation of a network or coalition with activities continuing after the grant period. Creation of coalitions and networks should be complementary and not duplicative.

• Applicants should indicate how technology and Internet connectivity will help in implementation of regional program components.

• Program plans may include a component for a Small Grants Competition. This requires a detailed plan for recruitment and advertising; a sample application; a description of the proposal review and award mechanism; a plan for how the grantee would monitor and evaluate small grant activity; and the proposed amount for an average grant. Funds for the Small Grants Competition should be no more than 25% of the total requested from the Bureau.

Public Advocacy Training for NGOs and Associations for Russia, Belarus/Russia, Belarus/Cross-Border

Overview

Public advocacy training on the grassroots level provides a basis for organizations to prioritize tasks and focus on issues in a practical way, thus allowing them to more effectively impart their message to the public and to local & national government.

The Bureau seeks proposals to provide training to Belarusian and Russian NGO leaders, trade union representatives and community leaders that will increase the visibility of their groups and strengthen their influence on local, regional and national levels. Proposals must indicate a practical and sophisticated knowledge of the political and NGO environment on the local, regional or national level in Belarus and Russia. Applicants should have established relationships with partner organizations for joint proposal development and program implementation.

NIS partner NGOs, organizations and institutions should be prepared to move beyond basic issues, such as organization and membership, and bring their message to a wider audience. Program components may include hands-on, intensive training workshops on issue advocacy; civic responsibility; good governance; grassroots political organizing; campaign management; accountability to constituencies; surveying; polling; advocacy; voter outreach, networking, message development, working with the media and fundraising.

Belarusian participants can greatly benefit from partnerships and networks developed in cross-border programs with other Central and Eastern European (CEE) countries, particularly Poland. Interested organizations may consider including experienced trainers from Poland or other CEE countries, to assist with training sessions on replicable and relevant public relations applications and methods. In these cases, existing partnerships and previous experience with the CEE organizations or trainers should be outlined in the proposal.

Public Advocacy Training for Joint Belarus/Russia, including CEE Cross-Border programs

• Participants in the training program should include both Belarusians and Russians.

• Programs may include Polish or CEE trainers for a cross-border component.

• Program components may take place in the U.S., Russia and/or Poland (or other CEE country).

• Program plans may include a component for a Small Grants Competition. This requires a detailed plan for recruitment and advertising; a sample application; a description of the proposal review and award mechanism; a plan for how the grantee would monitor and evaluate small grant activity; and the proposed amount for an average grant. Funds for the Small Grants Competition should be no more than 25% of the total requested from the Bureau.

Public Advocacy Training for Belarus, including CEE Cross-Border programs

• Participants in the training program should include only Belarusians.

• Cross-border programs may include Polish or CEE trainers.

• Program components should take place in the U.S. and/or Poland (or other CEE country).

• Program plans may include a component for a Small Grants Competition. This requires a detailed plan for recruitment and advertising; a sample application; a description of the proposal review and award mechanism; a plan for how the grantee would monitor and evaluate small grant activity; and the proposed amount for an average grant. Funds for the Small Grants Competition should be no more than 25% of the total requested from the Bureau.

Public Advocacy Training for Russia

• Participants in the training program should include only Russians.

• Program components may take place in the U.S. and/or Russia.

• Program plans may include a component for a Small Grants Competition. This requires a detailed plan for recruitment and advertising; a sample application; a description of the proposal review and award mechanism; a plan for how the grantee would monitor and evaluate small grant activity; and the proposed amount for an average grant. Funds for the Small Grants Competition should be no more than 25% of the total requested from the Bureau.

Prevention of Trafficking in Women and Girls for Belarus, Moldova and Russia

Overview

Trafficking in Women and Girls continues to be a serious problem globally, and particularly in the NIS. As the problem escalates, the need to educate girls, women, families and communities about trafficking increases. With the growing number of trafficked women repatriated to their home countries, there is also a greater need to broaden victim assistance efforts to include reintegration and occupational training. Current and past programs to combat trafficking in women and girls funded by the international community and NIS-based initiatives, have resulted in model assistance programs, as well as publications, printed materials and multimedia products that can be used for public awareness and educational campaigns.

Prevention of Trafficking in Women and Girls can be addressed in single-country or multi-country programs and should reach a wide audience by building on the collective experience of previous campaigns and victim assistance efforts conducted in any of the NIS countries. Competitive proposals will focus on (1) public awareness and educational campaigns for girls, women, families and communities about trafficking, and/or (2) victim assistance, including reintegration and occupational training. Priority will go to programs that propose to reach risk groups, regions or countries where awareness campaigns and victim assistance initiatives have been limited or nonexistent.

For proposals focusing on educational campaigns and public awareness: The applicant must demonstrate knowledge of current and previous campaigns; explain in-detail how existing materials will be used to provide a highly effective program; exhibit an understanding of U.S. government priorities; describe how the applicant will integrate the program plan with initiatives of the U.S. Embassies' Public Affairs Sections in the NIS; and demonstrate how the program plan will complement other educational and public awareness campaigns. Emphasis should be on the actual implementation of an educational or public awareness campaign, in cooperation with several partner NGOs and organizations in the NIS. Program activities should, where possible, reach a regional or national audience. Program components may take place in Belarus, Moldova and/or Russia.

For proposals focusing on victim assistance, reintegration and occupational training: Program components may include, but are not limited to, crisis intervention; counseling and hotlines; viable job skills training courses appropriate to the local market; reintegration workshops; establishment of local NGO networks that can serve as resources for shelters and crisis centers; support for rehabilitation services; and professional training for staff of shelters, crisis centers, hotlines, NGO or employment resource centers, and job skills courses. Program components may take place in Belarus, Moldova, Russia and/or the U.S.

In addition to the above information, competitive proposals will address these guidelines:

• Applicants should check the State Department website for current information on the Prevention of Trafficking in Women and Girls on the International Information Programs website: www.usinfo.state.gov/topical/global/traffic/ and the President's Interagency Council on Women website: http://secretary.state.gov/www/picw/index.html.

• Proposals should include sample educational and/or training materials and a description of how the materials will be integrated into proposed activities.

• Applicants may consider including experienced trainers from NIS or CEE countries to conduct training sessions or assist with educational campaigns. In these cases, existing partnerships and previous experience with the CEE organizations or trainers must be outlined in the proposal.

• The Bureau is particularly interested in proposals that will utilize the capacity of local NGOs and other organizations to assist with logistics, planning, and implementation of the local or regional educational and public awareness campaigns.

• Applicants should expect to work closely with Public Affairs Sections of the U.S. Embassies in the NIS on coordination of activities.

• Program plans may include small subcontracts with NIS organizations to cover costs for local logistics for outreach and educational or public awareness campaigns. When subcontracts are proposed, signed agreements with each organization or individual should be included in the proposal.

• Proposals must include a timeline for the entire proposed grant period, a schedule for each program component, subcontract agreements, resumes for each individual proposed in the program plan, and letters of support from NIS partner NGOs and other organizations.

• The program plan may include a Small Grants Competition for NIS NGOs and other organizations to conduct ongoing reintegration and occupational training workshops. This requires a detailed plan for outreach and advertising; a sample grant application; a description of the proposal review and award mechanism; a plan for how the U.S. grantee organization would monitor and evaluate small grant activity; and the proposed amount for an average grant. Funds for the Small Grants Competition should be no more than 25% of the total requested from the Bureau.

Selection of Participants

To be competitive, proposals should include a description of an open, merit-based participant selection process, including advertising, recruitment and selection. A sample application should be submitted with the proposal. Applicants should expect to carry out the entire selection process, but the Bureau and the Public Affairs Sections of the U.S. Embassies abroad should be consulted. The Bureau and the U.S. Embassies retain the right to nominate participants and to approve or reject participants recommended by the grantee institution. Priority must be given to foreign participants who have not traveled to the United States.

Visa Regulations

Foreign participants on programs sponsored by The Bureau are granted J-1 Exchange Visitor visas by the U.S. Embassy in the sending country. All programs must comply with J-1 visa regulations. Please refer to the Proposal Submission Instructions (PSI) for further information.

Project Funding

The funding available for NIS Exchanges and Training will be disbursed through grants to several organizations. Although no funding limit exists, organizations are strongly encouraged to submit proposals that do not exceed $130,000. Proposals that do not exceed $130,000 will be given priority. Organizations with less than four years of experience in managing international exchange programs are limited to $60,000.

Notice

The terms and conditions published in this RFP are binding and may not be modified by any Bureau representative. Explanatory information provided by the Bureau or program officers that contradicts published language will not be binding. Issuance of the RFP does not constitute an award commitment on the part of the U.S. Government. The Bureau reserves the right to reduce, revise, or increase proposal budgets in accordance with the needs of the program and the availability of funds. Awards made will be subject to periodic reporting and evaluation requirements. Organizations will be expected to cooperate with the Bureau in evaluating their programs under the principles of the Government Performance and Results Act (GPRA) of 1993, which requires federal agencies to measure and report on the results of their programs and activities.

Final awards cannot be made until funds have been appropriated by Congress, allocated and committed through internal U.S. Department of State procedures.

Budget Guidelines

Applicants must submit a comprehensive line item budget based on the model in the Proposal Submission Instructions, but are encouraged to provide the optional separate sub-budgets for each program component, location or activity in order to facilitate decisions on funding. Applicants should include a budget narrative or budget notes for clarification of each line item.

Cost sharing: Since the Bureau's grant assistance constitutes only a portion of total project funding, proposals should list and provide evidence of other sources of cost sharing, including financial and in-kind support. Proposals with substantial private sector support from foundations, corporations, and other institutions will be considered highly competitive. Please refer to the statement on cost sharing in the Proposal Submission Instructions.

The following program costs are eligible for funding consideration:

1. Transportation: International and domestic airfares (per the Fly America Act), transit costs, ground transportation costs, and visas for U.S. participants to travel to the NIS countries (visas for NIS participants to travel to the U.S. for travel funded by the Bureau's grant assistance are issued at no charge).

2. Per Diem: For U.S.-based programming, organizations should use the published Federal per diem rates for individual U.S. cities. For activities in the NIS and Central Europe, the Bureau strongly encourages applicants to budget realistic costs that reflect the local economy.

Domestic per diem rates may be accessed at: http://www.policyworks.gov/ and foreign per diem rates can be accessed at: http://www.state.gov/www/perdiems/index.html.

3. Interpreters: Local interpreters with adequate skills and experience may be used for program activities. Typically, one interpreter is provided for every four visitors who require interpreting, with a minimum of two interpreters. The Bureau grants do not pay for foreign interpreters to accompany delegations from their home country. Salary costs for local interpreters must be included in the budget. Costs associated with using their services may not exceed rates for U.S. Department of State interpreters. The Bureau strongly encourages applicants to use local interpreters. U.S. Department of State Interpreters may be used for highly technical programs with the approval of the Office of Citizen Exchanges. Proposal budgets should contain a flat $170/day per diem for each U.S. Department of State interpreter, as well as home-program-home air transportation of $400 per interpreter, reimbursements for taxi fares, plus any other transportation expenses during the program. Salary expenses are covered centrally and should not be part of an applicant's proposed budget.

4. Book and cultural allowance: Foreign participants are entitled to a one-time cultural allowance of $150 per person, plus a book allowance of $50. Interpreters should be reimbursed up to $150 for expenses when they escort participants to cultural events. U.S. program staff, trainers or participants are not eligible to receive these benefits.

5. Consultants: Consultants may be used to provide specialized expertise or to make presentations. Daily honoraria cannot exceed $250 per day. Subcontracting organizations may also be used, in which case the written agreement between the prospective grantee and subcontractor should be included in the proposal. Subcontracts should be itemized in the budget.

6. Room rental: Room rental may not exceed $250 per day.

7. Materials development: Proposals may contain costs to purchase, develop and translate materials for participants. The Bureau strongly discourages the use of automatic translation software for the preparation of training materials or any information distributed to the group of participants or network of organizations. Costs for good-quality translation of materials should be anticipated and included in the budget. Grantee organizations should expect to submit a copy of all program materials to the Bureau.

8. Equipment: Proposals may contain costs to purchase equipment for NIS-based programming such as computers, fax machines and copy machines. Costs for furniture are not allowed. Equipment costs must be kept to a minimum.

9. Working meal: Only one working meal may be provided during the program. Per capita costs may not exceed $5-8 for a lunch and $14-20 for a dinner, excluding room rental.

The number of invited guests may not exceed participants by more than a factor of two-to-one. Interpreters must be included as participants.

10. Return travel allowance: A return travel allowance of $70 for each foreign participant may be included in the budget. The allowance may be used for incidental expenses incurred during international travel.

11. Health Insurance: Foreign participants will be covered under the terms of a Bureau-sponsored health insurance policy. The premium is paid by the Bureau directly to the insurance company. Applicants are permitted to include costs for travel insurance for U.S. participants in the budget.

12. Administrative Costs: Costs necessary for the effective administration of the program may include salaries for grantee organization employees, benefits, and other direct and indirect costs per detailed instructions in the Application Package. While there is no rigid ratio of administrative to program costs, priority will be given to proposals whose administrative costs are less than twenty-five (25) per cent of the total requested from the Bureau. Proposals should show strong administrative cost-sharing contributions from the applicant, the NIS partner and other sources.

Please refer to the Proposal Submission Instructions (PSI) for complete budget guidelines.

Review Criteria

Technically eligible applications will be competitively reviewed according to the criteria stated below. Proposals should adequately address each area of review. These criteria are not rank ordered.

1. Program Planning and Ability to Achieve Objectives: Program objectives should be stated clearly and precisely and should reflect the applicant's expertise in the subject area and the region. Objectives should respond to the priority topics in this announcement and should relate to the current conditions in the included countries. Objectives should be reasonable and attainable. A detailed work plan should explain step-by-step how objectives will be achieved and should include a timetable for completion of major tasks. The substance of workshops, internships, seminars, presentations and/or consulting should be described in detail. Sample training schedules should be outlined. Responsibilities of in-country partners should be clearly described.

2. Institutional Capacity: The proposal should include (1) the U.S. institution's mission and date of establishment (2) detailed information about the NIS partner institution's capacity and the history of the U.S. and NIS partnership (3) an outline of prior awards—U.S. government and private support received for the target theme/region (4) descriptions of experienced staff members who will implement the program. Proposed personnel and institutional resources should be adequate and appropriate to achieve the program's goals. The narrative should demonstrate proven ability to handle logistics. The proposal should reflect the institution's expertise in the subject area and knowledge of the conditions in the target country/region(s).

3. Cost Effectiveness and Cost Sharing: Overhead and administrative costs for the proposal, including salaries, honoraria and subcontracts for services, should be kept to a minimum. Administrative costs should be less than twenty-five (25) per cent of the total funds requested from the Bureau. Applicants are encouraged to cost share a portion of overhead and administrative expenses. Cost-sharing, including contributions from the applicant, the NIS partner, and other sources should be included in the budget.

4. Program Evaluation: Proposals must include a plan and methodology to evaluate the program's successes, both as the activities unfold and at the program's conclusion. The Bureau recommends that the proposal include a draft survey questionnaire or other technique (such as a series of questions for a focus group). The evaluation plan should show a clear link between program objectives and expected outcomes in the short-and medium-term, and provide a well-thought-out description of performance indicators and measurement tools.

5. Multiplier Effect/Impact: Proposals should show how the program will strengthen long-term mutual understanding and institutionalization of program goals. Applicants should describe how responsibility and ownership of the program will be transferred to the NIS participants to ensure continued activity and impact. Programs that include convincing plans for sustainability will be given top priority.

6. Follow-on Activities: Proposals should provide a plan for continued follow-on activity (beyond the Bureau grant period) ensuring that the Bureau-supported programs are not isolated events. Follow-on activities should be clearly outlined.

7. Support of Diversity: Proposals should demonstrate substantive support of the Bureau's policy on diversity. Program content (orientation, evaluation, program sessions, resource materials, follow-on activities) and program administration (selection process, orientation, evaluation) should address diversity in a comprehensive and innovative manner. Applicants should refer to The Bureau's Diversity, Freedom and Democracy Guidelines on page four of the Proposal Submission Instructions (PSI).

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the 'Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be forwarded to panels of Bureau officers for advisory review. Proposals may also be reviewed by the Office of the Legal Adviser or by other Department elements. Final funding decisions are at the discretion of the Department of State's Assistant Secretary for Educational and Cultural Affairs. Final technical authority for assistance awards (grants or cooperative agreements) resides with the Bureau's Grants Officer.

Deadline for Proposals

All copies must be received by the U.S. Department of State, Bureau of Educational and Cultural Affairs, by 5 p.m. Washington, D.C. time on Tuesday, December 19, 2000.

Faxed documents will not be accepted at any time. The mailroom closes at 5:00 p.m.; no late submissions will be accepted. Documents postmarked by December 19, 2000, but received at a later date, will not be accepted. Each applicant must ensure that the proposals are received by the above deadline.

To Download an Application Package Via the Internet

The entire Application Package may be downloaded from the Bureau's website at http://exchanges.state.gov/education/rfps/.

Submissions

Applicants must follow all instructions given in the Application Package. The applicant's original proposal and ten (10) copies (unbound) should be sent to: U.S. Department of State, Ref.: ECA/PE/C/EUR-01-19, Program Management, ECA/EX/PM, Room 336, 301 4th Street, S.W., Washington, D.C. 20547.

Once the RFP deadline has passed, Bureau staff may not discuss this competition in any way with applicants until the proposal review process has been completed.

For Further Information, Contact

By mail: United States Department of State, SA-44, Bureau of Educational and Cultural Affairs, Office of Citizen Exchanges (ECA/PE/C), Room 220, Washington, DC 20547 attn: NIS Exchanges & Training.

By phone: Tel: (202) 260-6230; fax: 202-619-4350, By e-mail: nistraining@pd.state.gov.

Interested applicants may request the Application Package, which includes the Request for Proposals (RFP) and the Proposal Submission Instructions (PSI). Please specify “Europe/Eurasia Program Coordinator” on all inquiries and correspondence. All potential applicants should read the complete announcement before sending inquiries or submitting proposals.

Notification

Final awards cannot be made until funds have been appropriated by Congress, allocated and committed through internal U.S. Department of State procedures.

Dated: October 8, 2000.
William B. Bader,
Assistant Secretary for Educational and Cultural Affairs, U.S. Department of State.

[FR Doc. 00-26364 Filed 10-18-00; 8:45 am]

BILLING CODE 4710-05-P